AGENCY FOR INTERNATIONAL DEVELOPMENT

Notice of Meeting; Board for International Food and Agricultural Development

AGENCY: Agency for International Development.

ACTION: Notice of meeting; request for public comment.

SUMMARY: The Board for International Food and Agricultural Development (BIFAD) (see https://www.usaid.gov/bifad) is hosting a public meeting, A Public Consultation on BIFAD's Plans to Propose a Subcommittee on Minority Serving Institution Engagement and Leadership in USAID's Agricultural, Food Security, and Nutrition Programming. This public meeting will provide a forum for BIFAD to share plans for a proposed BIFAD Subcommittee on MSI Engagement and Leadership. It will assemble expert panelists and invite stakeholders to provide input on the Subcommittee's objectives and membership.

DATES: The virtual meeting will be on Wednesday, June 28, 2023 from 1:30 to 3:30 p.m. EDT, including a public comment period.

ADDRESSES: The event is open to the public and will be hosted via ZOOM for virtual public participation. All participants should register at: https://webinar-portal.net/webinars/tt/registration_230628.php.

SUPPLEMENTARY INFORMATION: BIFAD plans to propose the establishment of a Subcommittee on MSI Engagement and Leadership in USAID's Agricultural, Food Security, and Nutrition Programming this year. The proposed Subcommittee has the following overarching objectives:

1. Inform recommendations to strengthen partnerships with MSIs as thought leaders and implementing partners in USAID's agriculture, food security, and nutrition policies and programming.

2. Create a platform for direct dialogue.

3. Strengthen BIFAD's collaboration with MSIs.

4. Identify opportunities for USAID to engage with higher education communities, particularly MSIs and underrepresented groups, to develop a diverse pipeline of future professionals in global food security, nutrition, and agricultural development.

The establishment of this subcommittee is grounded in Executive Order 13985, Advancing Racial Equity and Support for Underserved Communities through the Federal Government, and USAID's Diversity, Equity, and Inclusion (DEI) Strategy.

At the meeting, expert panelists will provide perspective on opportunities and challenges for USAID engagement and collaboration with MSIs in agriculture, food security, and nutrition programming. Members of the MSI community, underrepresented groups in academia, and other stakeholders may discuss and share feedback on the draft objectives and membership plans for the BIFAD Subcommittee during a public comment period.

BIFAD and USAID will post a draft of the Subcommittee's Terms of Reference (TOR) outlining the objectives, authorities, membership plan, and member roles. The draft will be linked to www.usaid.gov/BIFAD on June 14th. Members of the public are invited to share written comments between June 14 and July 12, 2023. Please refer to the instructions below. All public comments will be included in the public record and considered in BIFAD's finalization of a Subcommittee proposal.

The BIFAD is a seven-member, presidentially appointed advisory board to the US. Agency for International Development (USAID) established in 1975 under title XII of the Foreign Assistance Act, as amended, to ensure that USAID brings the assets of U.S. universities to bear on development challenges in agriculture and food security and supports their representation in USAID programming.

For questions about registration, please contact Rachel Helbig at rachel.helbig@tetratech.com. For questions about BIFAD, or to submit written comments, evidence, or materials in advance or following the meeting, please contact Clara Cohen, Designated Federal Officer for BIFAD in the Bureau for Resilience and Food Security at USAID. Interested persons may email her at ccohen@usaid.gov (Subject: Comment on the proposed BIFAD Subcommittee on MSI Engagement) or telephone her at (202) 712-0119.

Clara Cohen,
Designated Federal Officer, BIFAD.

[FR Doc. 2023-11978 Filed 6-5-23; 8:45 am]

BILLING CODE 6116-01-P